DEPARTMENT OF ENERGY

Federal Energy Regulatory Commission

[Project No.15056-000]

Premium Energy Holdings, LLC; Notice of Preliminary Permit Application Accepted for Filing and Soliciting Comments, Motions To Intervene, and Competing Applications

On November 19, 2020, Premium Energy Holdings, LLC, filed an application for a preliminary permit, pursuant to section 4(f) of the Federal Power Act (FPA), proposing to study the feasibility of the Ashokan Pumped Storage Project to be located 14 miles west of the City of Kingston in Ulster County, New York. The sole purpose of a preliminary permit, if issued, is to grant the permit holder priority to file a license application during the permit term. A preliminary permit does not authorize the permit holder to perform any land-disturbing activities or otherwise enter upon lands or waters owned by others without the owners' express permission.

The proposed project would consist of the following: (1) A new 2,618-foot-long, 212-foot-high roller-compacted concrete dam for the upper reservoir for alternative 1 (Stony Clove Reservoir) with a surface area of 245 acres and a storage capacity 22,496 acre-feet at a surface elevation of 1,500 feet above mean sea level (msl); (2) a new 2,736-foot-long, 232-foot-high roller-compacted concrete dam for the upper reservoir for alternative 2 (Woodland Reservoir) with a surface area of 313 acres and a storage capacity 26,231 acre-feet at a surface elevation of 1,210 feet msl; (3) a new 2,527-foot-long, 304-foot-high roller-compacted concrete dam for the upper reservoir for alternative 3 (Wittenberg Reservoir) with a surface area of 226 acres and a storage capacity 25,558 acre-feet at a surface elevation of 1,180 feet msl; (4) the existing Ashokan Reservoir for the lower reservoir with a surface area of 8,300 acres and a storage capacity of 382,358 acre-feet at a surface elevation of 585 feet msl; (5) new 13.99-mile-long tunnels, shafts, and penstocks for alternative 1 connecting the upper and lower reservoirs; (6) new 11.58-mile-long tunnels, shafts, and penstocks for alternative 2 connecting the upper and lower reservoirs; (7) new 3.81-mile-long tunnels, shafts, and penstocks for alternative 3 connecting the upper and lower reservoirs; (8) a new 500-foot-long, 125-foot-wide, 150-foot-high underground reinforced-concrete powerhouse containing five turbine-generator units with a total rated capacity of 800 megawatts; (9) a 17.3-mile-long, 230-kilovolt new transmission line for alternatives 1 and 2 from the proposed Ashokan switchyard to the existing Hurley avenue substation; (10) a 12.9-mile-long, 230-kilovolt new transmission line for alternative 3 from the proposed Ashokan switchyard to the existing Hurley avenue substation; and (11) appurtenant facilities. The proposed project would have a maximum annual generation of 2,700 gigawatt-hours.

Applicant Contact: Victor M. Rojas, Premium Energy Holdings, LLC, 355 South Lemon Avenue, Suite A, Walnut, CA 91789; phone: 909-595-5314.

FERC Contact: Woohee Choi; phone: (202) 502-6336.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15056-000.

More information about this project, including a copy of the application, can be viewed or printed on the “eLibrary” link of the Commission's website at http://www.ferc.gov/docs-filing/elibrary.asp. Enter the docket number (P-15056) in the docket number field to access the document. For assistance, contact FERC Online Support.

Dated: February 11, 2021.
Nathaniel J. Davis, Sr.,
Deputy Secretary.

[FR Doc. 2021-03272 Filed 2-17-21; 8:45 am]

BILLING CODE 6717-01-P